DEPARTMENT OF HOMELAND SECURITY

Coast Guard

[Docket No. USCG-2023-0245]

National Commercial Fishing Safety Advisory Committee; May 2023 Meetings

AGENCY: Coast Guard, DHS.

ACTION: Notice of availability of recommendations and request for comments.

SUMMARY: The Coast Guard announces the availability of recommendations from the National Commercial Fishing Safety Advisory Committee. The Committee met in May 2023 and sent five recommendations to the Secretary of Homeland Security. The U.S. Coast Guard issues this Notice as the mechanism for receiving public comments and requests public comments on the recommendations.

DATES: Comments must be submitted on or before November 24, 2023.

ADDRESSES: You may submit comments identified by docket number USCG-2023-0245 using the Federal Decision Making Portal at https://www.regulations.gov. See the “Public Participation and Request for Comments” portion of the SUPPLEMENTARY INFORMATION section for further instructions on submitting comments.

FOR FURTHER INFORMATION CONTACT: For information about this document email questions to Jonathan.G.Wendland@uscg.mil or call 202-372-1245.

SUPPLEMENTARY INFORMATION:

Public Participation and Comments

We encourage you to submit comments (or related material) on the committee recommendations. If you submit a comment, please include the docket number for this notice, indicate the specific recommendation to which each comment applies, and provide a reason for each suggestion.

Submitting comments. We encourage you to submit comments through the Federal Decision Making Portal at http://www.regulations.gov. To do so, go to https://www.regulations.gov, type USCG-2023-0245 in the search box and click “Search.” Next, look for this document in the Search Results column, and click on it. Then click on the Comment option. If your material cannot be submitted using http://www.regulations.gov, contact the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. You may wish to view the Privacy & Security Notice and the User Notice, which are both available on the homepage of https://www.regulations.gov, and DHS's eRulemaking System of Records notice (85 FR 14226, March 11, 2020).

Discussion

The National Commercial Fishing Safety Advisory Committee is authorized by section 601 of the Frank LoBiondo Coast Guard Authorization Act of 2018, (Pub. L. 115-282, 132 Stat. 4190), and is codified in 46 U.S.C. 15102. The Committee operates under the provisions of the Federal Advisory Committee Act and 46 U.S.C. 15109.

The National Commercial Fishing Safety Advisory Committee provides advice and recommendations to the Secretary of Homeland Security through the Commandant of the U.S. Coast Guard, on matters relating to the safe operation of vessels. Additionally, the Committee will review regulations proposed under chapter 45 of Title 46 of U.S. Code (during preparation of the regulations) and review marine casualties and investigations of vessels covered by chapter 45 of Title 46 U.S. Code and make recommendations to the Secretary to improve safety and reduce vessel casualties.

The National Commercial Fishing Safety Advisory Committee (the committee) met from May 23, 2023 to May 25, 2023 (88 FR 26585).¹ The U.S. Coast Guard issued 3 tasks to the committee, and the committee sent 5 recommendations to the Secretary based on those tasks. As required by 46 U.S.C. 15109(j)(3)(B), the Coast Guard is establishing a mechanism for the submission of public comments on these recommendations.

¹ The U.S. Coast Guard gave public notice of this meeting on May 1, 2023. 88 FR 26585.

• Task #01-23 tasked the committee with reviewing 10 Marine Casualty investigation cases related to Personal Flotation Devices (PFD) and making recommendations to the Secretary of Homeland Security.

• Task #02-23 tasked the committee with reviewing 8 Marine Casualty investigation cases related to Cold Water and making recommendations to the Secretary of Homeland Security.

• Task #03-23 tasked the committee with reviewing 2 Marine Casualty investigation cases related to Falls Overboard and making recommendations to the Secretary of Homeland Security.

The recommendations are available in the docket and also can be found on our website at https://www.dco.uscg.mil/NCFSAC2023/or going to https://www.uscg.mil and clicking on the following links: United States Coast Guard > Our Organization > Assistant Commandant for Prevention Policy (CG-5P) > Inspections & Compliance (CG-5PC) > Commercial Vessel Compliance > Fishing Vessel Safety Division > NATIONAL COMMERCIAL FISHING VESSEL ADVISORY COMMITTEE > MEETINGS and clicking on the link “Norfolk NCFSAC RECO to USCG DFO Task 1,2,3.”

We invite public comments on these recommendations.

Dated: August 21, 2023.
Amy M. Beach,
Captain, U.S. Coast Guard, Director of Inspections and Compliance.

[FR Doc. 2023-18321 Filed 8-24-23; 8:45 am]

BILLING CODE 9110-04-P